DEPARTMENT OF THE INTERIOR

Fish and Wildlife Service

[FWS-R6-R-2008-N0059; 60138-1265-6CCP-S3]

Final Comprehensive Conservation Plan for the Laramie Plains National Wildlife Refuges, Wyoming

AGENCY: Fish and Wildlife Service, Interior.

ACTION: Notice of Availability.

SUMMARY: We, the U.S. Fish and Wildlife Service (Service) announce that our Final Comprehensive Conservation Plan (Plan) and finding of no significant impact (FONSI) for the Laramie Plains National Wildlife Refuges is available. The Laramie Plains National Wildlife Refuges include Bamforth National Wildlife Refuge (NWR), Hutton Lake NWR, and Mortenson Lake NWR. This Final CCP/EA describes how the Service intends to manage these Refuges for the next 15 years.

ADDRESSES: A copy of the Plan may be obtained by writing to U.S. Fish and Wildlife Service, Division of Refuge Planning, P.O. Box 25486, Denver Federal Center, Denver, Colorado 80225; or by download from http://mountain-prairie.fws.gov/planning.

FOR FURTHER INFORMATION CONTACT: Toni Griffin, 303-236-4378 (phone); 303-236-4792 (fax); or Toni_Griffin@fws.gov (e-mail).

SUPPLEMENTARY INFORMATION: The Laramie Plains National Wildlife Refuges include Bamforth National Wildlife Refuge (NWR), Hutton Lake NWR, and Mortenson Lake NWR and are managed by Service staff headquartered at the Arapaho NWR near Walden, Colorado. All three Refuges are located within 15 miles of the town of Laramie, Wyoming.

The town of Laramie, Wyoming, is positioned in a high plains basin ecosystem known as the Laramie Plains Basin. Shallow depressions of the Basin, within the relatively flat topography of the region, support wetland complexes that are unique to the area. These wetland complexes provide resting, nesting, and breeding areas for migratory birds in the semi-arid environment.

Bamforth NWR was established on January 29, 1932, by Executive Order 9321. Consisting of 1,166 acres, the Refuge is located approximately 6 miles northwest of Laramie, Wyoming. The purpose of the Refuge is to provide “a refuge and breeding ground for birds and wild animals.” The Refuge is closed to public use.

Hutton Lake NWR was established on January 28, 1932, by Executive Order 5782. Consisting of 1,928 acres, the Refuge is located approximately 10 miles southwest of Laramie, Wyoming. The purpose of the Refuge is to provide “a refuge and breeding ground for birds and wild animals.” Current public use opportunities at the Refuge include wildlife observation, wildlife photography, environmental education, and interpretation.

Mortenson Lake NWR was established in 1993 under the Endangered Species Act, to protect the Wyoming toad's last known population. The Wyoming toad was listed as an endangered species in 1984. The population at Mortenson Lake was found in 1987. The purpose of the Refuge is “to conserve fish or wildlife which are listed as endangered or threatened species.” The Refuge is closed to public use to prevent potential adverse impacts to the Wyoming toad.

The draft Plan and environmental assessment (EA) was made available to the public for review and comment following the announcement in the Federal Register on August 1, 2007 (72 FR 42103-42104). The draft Plan and EA identified and evaluated three alternatives for managing the Refuges for the next 15 years. Under Alternative A, the No Action alternative, the Service would manage habitats, wildlife, programs, and facilities at current levels as time, staff, and funds allow. Refuge habitats would continue to be managed on a minimal basis and opportunistic schedule that may maintain, or most likely would result in decline in, the diversity of vegetation and water quality and quantity in the wetlands. The Service would not develop any new management, restoration, or education programs at the Refuges.

Alternative B, the Proposed Action, would increase management activities on the Refuges. Upland habitats would be evaluated and managed for the benefit of migratory bird species. Monitoring and management of invasive species on the Refuges would be increased. With additional staffing, the Service would collect in-depth baseline data for wildlife and habitats. Efforts would be increased in the operations and maintenance of natural resources on the Refuges and to maintain and develop partnerships that promote wildlife and habitat research and management. An emphasis on adaptive management, including monitoring the effects of habitat management practices and use of the research results to direct ongoing management, would be a priority.

Under alternative C, Refuge staff would rely on partnerships to achieve Refuge goals and objectives. Refuge management activities would be increased and enhanced through the use of partnerships. Refuge staff would strive to accomplish Refuge work through partnerships with others. An emphasis on adaptive management, including monitoring the effects of habitat management practices and use of the research results to direct ongoing management, would be a priority.

The Service is furnishing this Notice to advise other agencies and the public of the availability of the Final Plan, to provide information on the desired conditions for the Refuges, and to detail how the Service will implement management strategies. Based on the review and evaluation of the information contained in the EA, the Regional Director has determined that implementation of the Final Plan does not constitute a major Federal action that would significantly affect the quality of the human environment within the meaning of Section 102(2)(c) of the National Environmental Policy Act. Therefore, an Environmental Impact Statement will not be prepared.

Dated: February 29, 2008.
Gary Mowad,
Acting Regional Director.

Editorial Note: This document was received in the Office of the Federal Register on July 14, 2008.

[FR Doc. E8-16352 Filed 7-16-08; 8:45 am]

BILLING CODE 4310-55-P